DEPARTMENT OF LABOR

Employment and Training Administration

[TA-W-54,689]

OWT Industries, Inc., Power Tool Operations, Pickens, SC; Notice of Termination of Investigation

Pursuant to section 221 of the Trade Act of 1974, an investigation was initiated on April 8, 2004 in response to a petition filed by a company official on behalf of workers at OWT Industries, Inc., Power Tool Operations, Pickens, South Carolina.

The petitioner has requested that the petition be withdrawn. Consequently, the investigation has been terminated.

Signed in Washington, DC this 23rd day of April 2004.
Elliott S. Kushner,
Certifying Officer, Division of Trade Adjustment Assistance.

[FR Doc. E4-1051 Filed 5-7-04; 8:45 am]

BILLING CODE 4510-13-P